OFFICE OF THE UNITED STATES TRADE REPRESENTATIVE

[Dispute No. WT/DS489]

WTO Dispute Settlement Proceeding Regarding Certain Measures Providing Export-Contingent Subsidies to Enterprises in Several Industrial Sectors in China; Correction

AGENCY: Office of the United States Trade Representative.

ACTION: Notice; Correction.

SUMMARY: On Tuesday, May 12, 2015 (80 FR 27225), the Office of the United States Trade Representative (“USTR”) published a notice titled WTO Dispute Settlement Proceeding Regarding Certain Measures Providing Export-Contingent Subsidies to Enterprises in Several Industrial Sectors in China. Subsequent to the publication of that notice, USTR discovered an error in the published notice. This notice corrects that error.

DATES: This correction is effective immediately.

FOR FURTHER INFORMATION CONTACT: Arthur Tsao, Assistant General Counsel, Office of the United States Trade Representative, (202) 395-3150.

SUPPLEMENTARY INFORMATION: On page 27225, make the following correction: In the DATES section, in the fifth line, “May 12, 2015” should read “June 11, 2015.”

Juan A. Millán,
Acting Assistant United States Trade Representative for Monitoring and Enforcement.

[FR Doc. 2015-12279 Filed 5-20-15; 8:45 am]

BILLING CODE 3290-F5-P